DEPARTMENT OF COMMERCE

National Oceanic and Atmospheric Administration

RIN 0648-XP73

Endangered Species; File No. 14272

AGENCY: National Marine Fisheries Service (NMFS), National Oceanic and Atmospheric Administration (NOAA), Commerce.

ACTION: Issuance of permit.

SUMMARY: Notice is hereby given that Lawrence Wood, Marinelife Center of Juno Beach, 14200 U.S. Hwy. #1, Juno Beach, FL 33408, has been issued a permit to take hawksbill (Eretmochelys imbricata) sea turtles for purposes of scientific research.

ADDRESSES: The permit and related documents are available for review upon written request or by appointment in the following offices:

Permits, Conservation and Education Division, Office of Protected Resources, NMFS, 1315 East-West Highway, Room 13705, Silver Spring, MD 20910; phone (301) 713-2289; fax (301) 427-2521;

Southeast Region, NMFS, 263 13th Ave South, St. Petersburg, FL 33701; phone (727) 824-5312; fax (727) 824-5309.

FOR FURTHER INFORMATION CONTACT: Patrick Opay or Kate Swails, (301) 713-2289.

SUPPLEMENTARY INFORMATION: On March 9, 2009, notice was published in the Federal Register (74 FR 10034) that a request for a scientific research permit to take hawksbill sea turtles had been submitted by the above-named individual. The requested permit has been issued under the authority of the Endangered Species Act of 1973, as amended (ESA; 16 U.S.C. 1531 et seq.) and the regulations governing the taking, importing, and exporting of endangered and threatened species (50 CFR parts 222-226).

The research will continue to describe the abundance and movements of an aggregation of hawksbill sea turtles found on the barrier reefs of Palm Beach County, Florida. Up to 75 animals will be captured, tagged, and sampled annually for 5 years. Up to ten animals will have satellite transmitters attached to their carapace.

Issuance of this permit, as required by the ESA, was based on a finding that such permit (1) was applied for in good faith, (2) will not operate to the disadvantage of such endangered species, and (3) is consistent with the purposes and policies set forth in section 2 of the ESA.

Dated: June 22, 2009.
P. Michael Payne,
Chief, Permits, Conservation and Education Division, Office of Protected Resources, National Marine Fisheries Service.

[FR Doc. E9-15196 Filed 6-26-09; 8:45 am]

BILLING CODE 3510-22-S